DEPARTMENT OF TRANSPORTATION

Surface Transportation Board

[Docket No. AB 1235X]

MCM Rail Services LLC, d/b/a Baltimore Industrial Railroad—Petition for Discontinuance of Service Exemption—in Baltimore County, Md.

On July 28, 2015, MCM Rail Services LLC, d/b/a Baltimore Industrial Railroad (MCM Rail) filed with the Surface Transportation Board (Board) a petition under 49 U.S.C. 10502 for exemption from the provisions of 49 U.S.C. 10903 to discontinue rail service over an approximately 12-mile line of railroad in Sparrows Point, Baltimore County, Md. (the Line). MCM Rail states that there are no mileposts on the Line. The Line is the entire system operated by MCM Rail. The Line traverses through United States Postal Service Zip Code 21219, and there are no stations on the Line.

MCM Rail states that the Line is stub-ended and therefore not capable of handling overhead traffic. Upon discontinuance of service by MCM Rail, rail service over the Line will be provided by the owner of the Line, Sparrows Point Rail, LLC (formerly known as Hilco SP Rail LLC). To MCM Rail's knowledge, the Line does not contain federally granted rights-of-way.

Because this is the discontinuance of the entire system operated by MCM Rail, no labor conditions will be imposed. Additionally, because this is a discontinuance proceeding and not an abandonment proceeding, trail use/rail banking and public use conditions are not appropriate.

By issuance of this notice, the Board is instituting an exemption proceeding pursuant to 49 U.S.C. 10502(b). A final decision will be issued by November 13, 2015.

Any offer of financial assistance (OFA) under 49 CFR 1152.27(b)(2) to subsidize continued rail service will be due no later than November 23, 2015, or 10 days after the service of a decision granting the petition for exemption, whichever occurs sooner. Each offer must be accompanied by a $1,600 filing fee. See 49 CFR 1002.2(f)(25).

All filings in response to this notice must refer to Docket AB 1235X and must be sent to: (1) Surface Transportation Board, 395 E Street SW., Washington, DC 20423-0001; and (2) John K. Fiorilla, Esq., Capehart Scatchard, 8000 Midlantic Drive, Suite 300, Mt. Laurel, NJ 08054. Replies to the petition are due on or before September 8, 2015.

Persons seeking further information concerning discontinuance procedures may contact the Board's Office of Public Assistance, Governmental Affairs, and Compliance at (202) 245-0238 or refer to the full abandonment and discontinuance regulations at 49 CFR pt. 1152. Questions concerning environmental issues may be directed to the Board's Office of Environmental Analysis (OEA) at (202) 245-0305.

Assistance for the hearing impaired is available through the Federal Information Relay Service (FIRS) at 1-800-877-8339.

Board decisions and notices are available on our Web site at WWW.STB.DOT.GOV.

Decided: August 12, 2015.
By the Board, Rachel D. Campbell, Director, Office of Proceedings
Kenyatta Clay,
Clearance Clerk.

[FR Doc. 2015-20214 Filed 8-14-15; 8:45 am]

BILLING CODE 4915-01-P